AGENCY FOR INTERNATIONAL DEVELOPMENT

Notice of Meeting

Pursuant to the Federal Advisory Committee Act, notice is hereby given of a meeting of the Advisory Committee on Voluntary Foreign Aid (ACVFA).

Dates: Wednesday, October 21, 2009 (9 a.m. to 3 p.m., times may be adjusted).

Location: Jack Morton Auditorium, Media and Public Affairs Building, George Washington University, 805 21st Street, NW., Washington, DC 20052.

Please note that this is the anticipated agenda and is subject to change.

Keynote: The Administrator-designate, or if there is not yet a designated nominee, the Acting Administrator, Alonzo Fulgham, will present an update from the front office of USAID on the current initiatives underway at USAID.

Keynote: Franklin Moore, Deputy Assistant Administrator, Bureau for Africa, USAID, will present an overview of food security issues and programs at USAID and frame the discussion of the panel following on best (and worst) practices in implementing food security programs overseas.

The primary focus of the meeting will be on food security and what has and has not worked in implementing these programs. There will be a panel discussion on this topic.

Stakeholders. The meeting is free and open to the public. Persons wishing to attend the meeting can register online at http://www.usaid.gov/about_usaid/acvfa or with Deborah Lewis at dlewis@usaid.gov or 202-712-0936.

September 22, 2009.
Deborah Lewis,
Office of the Chief Operating Officer, U.S. Agency for International Development.

[FR Doc. E9-23314 Filed 9-25-09; 8:45 am]

BILLING CODE P